DEPARTMENT OF ENERGY

Bonneville Power Administration

Fish and Wildlife Implementation Plan

AGENCY: Bonneville Power Administration (BPA), Department of Energy (DOE).

ACTION: Notice of scoping meeting.

SUMMARY: This notice announces BPA's scoping meeting for its Fish and Wildlife Implementation Plan Environmental Impact Statement (EIS) being prepared in accordance with the National Environmental Policy Act (NEPA). BPA has established a scoping period during which all interested and affected persons and agencies are invited to comment on the scope of the proposed EIS. Scoping will help BPA ensure that a full range of issues related to the development and implementation of a regional fish and wildlife policy is addressed in the EIS, and also will identify significant or potentially significant impacts that may result from the implementation of such a policy. This notice also extends the close of comment for scoping from the previously published February 29, 2000, to March 31, 2000.

DATES: Please send written comments to the address below no later than Friday, March 31, 2000. Comments may also be made at an EIS scoping meeting to be held at the Bonneville Power Administration, Room 122, 905 NE 11th Avenue, Portland, Oregon, on Tuesday, March 14, 2000, from 1:00 p.m. to 4:00 p.m. At the informal meeting, a brief overview of the EIS and presentation of background information will be followed by an open house during which attendees may discuss the EIS with BPA's EIS team. Written information will also be available, and BPA staff will answer questions and accept both oral and written comments.

BPA invites comments and suggestions on the proposed scope of the Draft EIS. Send comment letters and requests to be placed on the project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov. Please be sure to note that your comments are on the Fish and Wildlife Implementation Plan EIS.

FOR FURTHER INFORMATION CONTACT: Charles C. Alton—KEC-4, Bonneville Power Administration, P.O. Box 3621, Portland, Oregon, 97208-3621, phone number 503-230-5878, fax number 503-230-5699.

SUPPLEMENTARY INFORMATION: Throughout the Pacific Northwest region there are several ongoing processes to develop plans and programs for the management, recovery, and mitigation of the Columbia River Basin's fish and wildlife resources. These plans and programs will help to shape a regional fish and wildlife policy direction that will guide BPA's mitigation and recovery efforts, including its funding, for the next decade or more. BPA expects to shift its fish and wildlife spending accordingly.

BPA currently funds over 70 percent of the fish and wildlife mitigation and recovery efforts on behalf of the Federal Columbia River Power System. Consequently, BPA has a responsibility to understand the impacts of those efforts and to ensure it can fund them efficiently. Therefore, BPA is preparing an EIS that examines the impacts that may arise from implementing one of the fish and wildlife policy directions reflected in the alternatives being considered in the ongoing regional processes. A Notice of Intent to Prepare an EIS was published in the Federal Register on October 20, 1999 (64 FR 56488). A Notice of Scoping Meeting was also previously published in the Federal Register on January 6, 2000 (65 FR 765). That scoping meeting was held on February 3, 2000, in Portland, Oregon, in conjunction with several other meetings related to fish and wildlife recovery efforts in the Pacific Northwest.

Issued in Portland, Oregon, on February 18, 2000.
Roger E. Seifert,
Special Assistant to the Vice President.

[FR Doc. 00-4441 Filed 2-24-00; 8:45 am]

BILLING CODE 6450-01-P